DEPARTMENT OF COMMERCE

National Institute of Standards and Technology

[Docket No. 110524296-1455-02]

Models for a Governance Structure for the National Strategy for Trusted Identities in Cyberspace—Extension of Due Date for Comments

AGENCY: National Institute of Standards and Technology (NIST), United States Department of Commerce.

ACTION: Notice.

SUMMARY: NIST is extending the deadline for submitting comments regarding the governance structure for the National Strategy for Trusted Identities in Cyberspace (NSTIC) to 3 p.m. Eastern Time, August 30, 2011. NIST will accept only electronic submissions during the extended time period.

DATES: Comments must be received no later than 3 p.m. Eastern Time August 30, 2011.

ADDRESSES: Electronic comments may be sent to NSTICnoi@nist.gov.

FOR FURTHER INFORMATION CONTACT: Ross J. Micheals via e-mail at ross.micheals@nist.gov or telephone (301) 975-3234.

SUPPLEMENTARY INFORMATION: On June 14, 2011, the National Institute of Standards and Technology (NIST) announced that it was soliciting comments on potential models for the formation and structure of the Identity Ecosystem governance body. The due date for submission of comments was July 22, 2011. Due to requests from the public and in order to provide all interested parties the opportunity to submit comments, NIST is extending the solicitation period until 3 p.m. Eastern Time, August 30, 2011. Proposals received between July 22, 2011 and the publication date of this notice of extension shall be deemed timely and will be given full consideration. Persons who submitted comments between July 22, 2011 and the date of publication of this notice need not resubmit their comments. During the extended solicitation period, NIST will accept only electronic submissions.

Some members of the public submitted several versions of their comments. In those cases, NIST will consider and post only the last version received.

Dated: August 9, 2011.
Willie E. May,
Associate Director for Laboratory Programs.

[FR Doc. 2011-20816 Filed 8-15-11; 8:45 am]

BILLING CODE 3510-13-P